DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, e-mail paperwork@hrsa.gov or call the HRSA Reports Clearance Office on (301) 443-1129.

The following request has been submitted to OMB for review under the Paperwork Reduction Act of 1995:

Proposed Project: Ryan White HIV/AIDS Program Allocation and Expenditure Forms (OMB No. 0915-0318)—[Extension]

The Ryan White HIV/AIDS Program Allocation and Expenditure Reports will enable the Health Resources and Services Administration's HIV/AIDS Bureau to track spending requirements for each program as outlined in the legislation. Grantees funded under Parts A, B, C, and D of the Ryan White HIV/AIDS Program (codified under Title XXVI of the Public Health Service Act) would be required to report financial data to HRSA at the beginning and end of their grant cycle.

All parts of the Ryan White HIV/AIDS Program specify HRSA's responsibilities in the administration of grant funds. Accurate allocation and expenditure records of the grantees receiving Ryan White HIV/AIDS Program funding are critical to the implementation of the legislation and thus are necessary for HRSA to fulfill its responsibilities.

The forms would require grantees to report on how funds are allocated and spent on core and non-core services, and on various program components, such as administration, planning, evaluation, and quality management. The two forms are identical in the types of information that are collected. However, the first report would track the allocation of the award at the beginning of the grant cycle and the second report would track actual expenditures (including carryover dollars) at the end of the grant cycle.

The primary purposes of these forms are to (1) provide information on the number of grant dollars spent on various services and program components, and (2) oversee compliance with the intent of Congressional appropriations in a timely manner. In addition to meeting the goal of accountability to the Congress, clients, advocacy groups, and the general public, information collected on these reports is critical for HRSA, state and local grantees, and individual providers for the evaluation of the effectiveness of these programs.

The response burden for grantees is estimated as:

Program under which grantee is funded | Number of grantee respondents | Responses per grantee | Total responses | Hours to complete each form | Total hours
Part A | 56 | 2 | 112 | 8 | 896
Part B | 59 | 2 | 118 | 12 | 1416
Part A MAI | 56 | 2 | 112 | 4 | 448
Part B MAI | 59 | 2 | 118 | 4 | 472
Part C | 361 | 2 | 722 | 7 | 5054
Part D | 90 | 2 | 180 | 7 | 1260
Total | 681 |  | 1,362 |  | 9,546

Written comments and recommendations concerning the proposed information collection should be sent within 30 days of this Federal Register Notice to the desk officer for HRSA, either by e-mail to OIRA_submission@omb.eop.gov or by fax to 202-395-6974. Please direct all correspondence to the “attention of the desk officer for HRSA.”

Dated: December 22, 2010.
Robert Hendricks,
Director, Division of Policy and Information Coordination.

[FR Doc. 2010-32708 Filed 12-28-10; 8:45 am]

BILLING CODE 4165-15-P